NEIGHBORHOOD REINVESTMENT CORPORATION

Regular Board of Directors Meeting; Sunshine Act Meeting

TIME AND DATE: 2:00 p.m., Tuesday, September 24, 2013.

PLACE: 999 North Capitol St NE., Suite 900, Gramlich Boardroom, Washington, DC 20002.

STATUS: Open.

CONTACT PERSON FOR MORE INFORMATION: Erica Hall, Assistant Corporate Secretary (202) 220-2376; ehall@nw.org.

AGENDA:

I. Call To Order.

II. Recognize Steve Tuminaro Service.

III. Approval of Minutes.

IV. Executive Session.

V. FY14 Preliminary Budget & Budget Update.

VI. Settlement Opportunity.

VII. DC Office Final Report.

VIII. FY13 Milestone Report & Dashboard.

IX. LIFT & LIFT 2.0.

X. Community Impact Measures.

XI. MHA, NFMC & EHLP Reports.

XII. Adjournment.

Erica Hall,
Assistant Corporate Secretary.

[FR Doc. 2013-21914 Filed 9-5-13; 8:45 am]

BILLING CODE 7570-02-P